ENVIRONMENTAL PROTECTION AGENCY

[FRL-8791-3]

American Recovery and Reinvestment Act of 2009 (Recovery Act) Supplemental Funding for Brownfields Revolving Loan Fund (RLF) Grantees

AGENCY: Environmental Protection Agency (EPA).

ACTION: Notice.

SUMMARY: EPA's Office of Brownfields and Land Revitalization (OBLR) plans to make available approximately $40 million in Recovery Act funding to supplement Revolving Loan Fund capitalization grants previously awarded competitively under section 104(k)(3) of the Comprehensive Environmental Response, Compensation and Liability Act (CERCLA), 42 U.S.C. 9604(k)(3). Brownfields Cleanup Revolving Loan Fund (BCRLF) pilots awarded under section 104(d)(1) of CERCLA that have not transitioned to section 104(k)(3) grants are not eligible to apply for these funds. EPA will award these funds under the criteria described below only to RLF grantees who have demonstrated an ability to deliver programmatic results by making at least one loan or subgrant and have effectively utilized existing available loan funds (high performing RLF grantees).

The Agency is now accepting requests for Recovery Act supplemental funding from high performing RLF grantees. Requests for funding must be submitted to the EPA Regional Contact (listed below) by May 1, 2009. Specific information on submitting a request for Recovery Act RLF supplemental funding can be obtained by contacting the EPA Regional Contact.

DATES: This action is effective April 10, 2009.

ADDRESSES: Mailing addresses and contact information for U.S. EPA Regional Offices and U.S. EPA Headquarters are provided below and in the Recovery Act Process and Consideration Guidelines for RLF Grant Supplemental Funding. The guidelines are available at: http://www.epa.gov/brownfields/eparecovery. Copies of the guidelines will also be sent upon request. Requests should be made by calling U.S. EPA's Office of Solid Waste and Emergency Response, Office of Brownfields and Land Revitalization, (202) 566-2777 or regional offices.

FOR FURTHER INFORMATION CONTACT: Debi Morey, U.S. EPA, Office of Solid Waste and Emergency Response, Office of Brownfields and Land Revitalization, (202) 566-2735 or the appropriate Brownfields Regional Contact.

Regional Contacts
Region | States | Address/phone number/e-mail
EPA Region 1, Diane Kelley, Kelley.Diane@epa.gov | CT, ME, MA, NH, RI, VT | One Congress Street, Suite 1100, Boston, MA 02114-2023; Phone (617) 918-1424; Fax (617) 918-1291.
EPA Region 2, Larry D'Andrea, DAndrea.Larry@epa.gov | NJ, NY, PR, VI | 290 Broadway, 18th Floor, New York, NY 10007; Phone (212) 637-4314; Fax (212) 637-4360.
EPA Region 3, Tom Stolle, Stolle.Tom@epa.gov | DE, DC, MD, PA, VA, WV | 1650 Arch Street, Mail Code 3HS51, Philadelphia, Pennsylvania 19103; Phone (215) 814-3129; Fax (215) 814-5518.
EPA Region 4, Wanda Jennings, Jennings.Wanda@epa.gov | AL, FL, GA, KY, MS, NC, SC, TN | Atlanta Federal Center, 61 Forsyth Street, S.W., 10th FL, Atlanta, GA 30303-8960; (404) 562-8682 (w); (404) 562-8439 (fax).
EPA Region 5, Deborah Orr, Orr.Deborah@epa.gov | IL, IN, MI, MN, OH, WI | 77 West Jackson Boulevard, Mail Code SE-4J, Chicago, Illinois 60604-3507; Phone (312) 886-7576; Fax (312) 886-7190.
EPA Region 6, Monica Chapa, Smith.Monica@epa.gov | AR, LA, NM, OK, TX | 1445 Ross Avenue, Suite 1200 (6SF-PB), Dallas, Texas 75202-2733; Phone (214) 665-6780; Fax (214) 665-6660.
EPA Region 7, Susan Klein, Klein.Susan@epa.gov | IA, KS, MO, NE | 901 N. 5th Street, Kansas City, Kansas 66101; Phone (913) 551-7786; Fax (913) 551-8688.
EPA Region 8, Ted Lanzano, Lanzano.Ted@epa.gov | CO, MT, ND, SD, UT, WY | 1595 Wynkoop Street (EPR-B), Denver, CO 80202-1129; Phone (303) 312-6596; Fax (303) 312-6067.
EPA Region 9, Debbie Schechter, Schechter.Debbie@epa.gov | AZ, CA, HI, NV, AS, GU | 75 Hawthorne Street, SFD 9-1, San Francisco, California 94105; Phone (415) 972-3093; Fax (415) 947-3520.
EPA Region 10, Brooks Stanfield, Stanfield.Brooks@epa.gov | AK, ID, OR, WA | 1200 Sixth Avenue, Seattle, Washington 98101; Phone (206) 553-4423; Fax (206) 553-0124.

SUPPLEMENTARY INFORMATION:

Background

On February 17, 2009, President Barack Obama signed the American Recovery and Reinvestment Act of 2009 (Pub. L. 111-05) (Recovery Act). EPA received $100 million in Recovery Act appropriations for the CERCLA 104(k) Brownfields Program of which 25% must be used at Brownfields sites contaminated with petroleum. The Agency has allocated approximately $40 million of Recovery Act funds for supplemental funding of current RLF grantees as authorized by CERCLA 104(k)(4).

Policy Changes To Expedite Effective Use of Recovery Act Supplemental RLF Funds

RLF supplemental funding awarded with Recovery Act funds is not subject to the 20 percent cost share required by CERCLA 104(k)(9)(B)(iii). Further, in order to increase flexibility, the Agency will not require that RLF grantees use at least 60 percent of the supplemental funding award for loans; RLF grantees may use up to 100 percent of Recovery Act funds for either loans or subgrants. In addition, while EPA is still limiting individual subgrants to no more than $200,000 per site, RLF grantees may petition EPA to waive the $200,000 per site subgrant limitation, if such a waiver would promote the goals of the Recovery Act through increased job creation, retention, and economic development.

In accordance with OMB's February 18, 2009, guidance for implementing the Recovery Act, EPA will provide supplemental RLF funding under new awards rather than through amendments to existing RLF grants. This will ensure that RLF grantees will track Recovery Act funds separately from RLF funds awarded using EPA's annual appropriation for Brownfields grants.

Process and Criteria for Awarding Recovery Act Funding

EPA will consider requests for Recovery Act supplemental RLF funding from high performing RLF grantees that are submitted to the EPA regional office awarding the RLF grant and are postmarked and received by e-mail by May 1, 2009. High performing RLF grantees must submit a new request for Recovery Act supplemental RLF funds even if the grantee has a pending request for Brownfields RLF supplemental funding under consideration by EPA. There is no maximum amount of supplemental funding that an RLF grantee can request under this notice. EPA's Assistant Administrator for the Office of Solid Waste and Emergency Response (AA for OSWER) will select recipients for RLF Recovery Act supplemental funding and the grants will be awarded by EPA regional award officials. EPA regional offices and OBLR will evaluate requests and make funding recommendations to EPA's AA for OSWER based on the following criteria:

• Demonstrated ability to make loans and subgrants with Recovery Act funds quickly (i.e., “shovel-ready” projects) for cleanups that can be started and completed expeditiously,

• Demonstrated ability to use supplemental RLF funds in a manner that maximizes job creation and economic benefit,

• Demonstrated ability to track and measure progress in creating jobs associated with the loans or subgrants,

• The RLF grantee must have made at least one loan or subgrant AND have effectively utilized existing available loan funds,

• Demonstrated ability to track and measure progress of cleanups resulting from a loan or subgrant,

• Demonstrated need for supplemental funding, including the number of sites and communities that may benefit from supplemental funding,

• Demonstrated ability to administer and “revolve” the RLF grant, and administer subgrant(s) and/or loan(s),

• Demonstrated ability to use the RLF grant to address funding gaps for cleanup,

• Community benefit from past and potential loan(s) and/or subgrant(s), and,

• Demonstrated ability to use the RLF grant to provide funding to promote projects incorporating sustainable reuse and renewable energy.

Priority consideration will be given to funding those grantees who can demonstrate they have shovel-ready projects that will expeditiously result in job creation and can clearly demonstrate how they will track and measure their progress in creating the jobs associated with the loans or subgrants. In addition, EPA may consider geographic distribution of the funds among EPA's ten Regions.

Consistent with section 104(k)(12)(B) of CERCLA, in making decisions on RLF Recovery Act supplemental funding, EPA will take into account the requirement that twenty-five percent of the Recovery Act appropriation for Brownfields grant be used at sites contaminated with petroleum. Applicants for RLF Recovery Act supplemental funding must specify the amount of funding they are requesting for subgrants and loans to cleanup these sites. States must demonstrate that their Governor or State legislature has agreed to accept Recovery Act funds as required by section 1607 of the Recovery Act.

RLF grantees requesting supplemental funding should be aware that grant agreements will include all terms and conditions required by the Recovery Act. Under section 1604 of the Recovery Act, funds may not be used for any casino or other gambling establishment, zoo, golf course, or swimming pool. Under section 1512 of the Recovery Act, OMB implementing guidance and Agency policy, there will be additional reporting requirements. There may also be requirements under Section 1605 of the Recovery Act, to use American made iron, steel and manufactured goods for Recovery Act projects. Under Section 1606 of the Recovery Act, contractors and subcontractors hired with Recovery Act funds are required to pay prevailing wages to laborers and mechanics in compliance with the Davis-Bacon Act. Grantees selected for Recovery Act RLF supplemental funding must be willing to comply with these requirements.

Each grantee and sub-grantee awarded funds made available under the Recovery Act shall promptly refer to the Office of Inspector General any credible evidence that a principal, employee, agent, contractor, sub-grantee, subcontractor, or other person has submitted a false claim under the False Claims Act or has committed a criminal or civil violation of laws pertaining to fraud, conflict of interest, bribery, gratuity, or similar misconduct involving those funds.

Statutory and Executive Order Reviews: Under Executive Order 12866 (58 FR 51735, October 4, 1993), this action is not a “significant regulatory action” and is therefore not subject to OMB review. Because this grant action is not subject to notice and comment requirements under the Administrative Procedures Act or any other statute, it is not subject to the Regulatory Flexibility Act (5 U.S.C. 601 et seq.) or Sections 202 and 205 of the Unfunded Mandates Reform Act of 1999 (UMRA) (Pub. L. 104-4). In addition, this action does not significantly or uniquely affect small governments. Although this action does not generally create new binding legal requirements, where it does, such requirements do not substantially and directly affect Tribes under Executive Order 13175 (63 FR 67249, November 9, 2000). Although this grant action does not have significant Federalism implications under Executive Order 13132 (64 FR 43255, August 10, 1999), EPA consulted with states in the development of these grant guidelines. This action is not subject to Executive Order 13211, “Actions Concerning Regulations that Significantly Affect Energy Supply, Distribution, or Use” (66 FR 28355, May 22, 2001), because it is not a significant regulatory action under Executive Order 12866. This action does not involve technical standards; thus, the requirements of Section 12(d) of the National Technology Transfer and Advancement Act of 1995 (15 U.S.C. Section 272 note) do not apply. This action does not impose an information collection burden under the provisions of the Paperwork Reduction Act of 1995 (44 U.S.C. Section 3501 et seq.). The Congressional Review Act, 5 U.S.C. 801 et seq., generally provides that before certain actions may take effect, the agency promulgating the action must submit a report, which includes a copy of the action, to each House of the Congress and to the Comptroller General of the United States. Since this grant action, when finalized, will contain legally binding requirements, it is subject to the Congressional Review Act, and EPA will submit its final action in its report to Congress under the Act.

Dated: April 6, 2009.
David R. Lloyd,
Director, Office of Brownfields and Land Revitalization, Office of Solid Waste and Emergency Response.

[FR Doc. E9-8240 Filed 4-9-09; 8:45 am]

BILLING CODE 6560-50-P